DEPARTMENT OF ENERGY

Federal Energy Regulatory Commission

[Docket No. ER02-2602-004, et al.]

Dayton Power and Light Company, et al.; Electric Rate and Corporate Regulation Filings

October 3, 2002.

The following filings have been made with the Commission. The filings are listed in ascending order within each docket classification.

1. Dayton Power and Light Company and DPL Energy LLC

[Docket Nos. ER96-2602-004 and ER96-2601-015]

Take notice that The Dayton Power and Light Company and DPL Energy, LLC on September 27, 2002 tendered for filing an updated market power analysis.

Comment Date: October 18, 2002.

2. Allegheny Energy Supply Company, LLC, AYP Energy, Inc., Allegheny Energy Supply Conemaugh, LLC, Allegheny Energy Supply, Gleason Generating Facility, LLC, Allegheny Energy Supply, Lincoln Generating Facility, LLC, Allegheny Energy Supply, Wheatland Generating Facility, LLCm Allegheny Energy Supply, Hunlock Creek, LLC, Allegheny Power, Green Valley Hydro, LLC, and Buchanan Generation, LLC

[Docket Nos. ER00-814-001, ER99-954-001, ER01-791-001, ER01-2067-002, ER01-2068-002, ER01-2066-001, ER01-332-001, ER98-1466-002, ER00-2924-002, and ER02-1638-001]

Take notice that on September 30, 2002, Allegheny Energy Supply Company, LLC, AYP Energy, Inc., Allegheny Energy Supply Conemaugh, LLC, Allegheny Energy Supply Gleason Generating Facility, LLC, Allegheny Energy Supply Lincoln Generating Facility, LLC, Allegheny Energy Supply Wheatland Generating Facility, LLC, Allegheny Energy Supply Hunlock Creek, LLC, Allegheny Power, Green Valley Hydro, LLC, and Buchanan Generation, LLC (“Applicants”) filed their triennial market power report pursuant to the Commission's orders authorizing the Applicants to sell power at market-based rates.

Comment Date: October 21, 2002.

3. Southern Company Services, Inc.

[Docket No. ER02-851-006]

Take notice that on September 27, 2002, on behalf of Southern Company Services, Inc., acting as agent for Alabama Power Company, Georgia Power Company, Gulf Power Company, Mississippi Power Company, and Savannah Electric and Power Company (collectively, Southern Companies) submitted an Informational Filing. The purpose of this Informational Filing is to update the FERC Annual Charge component of Southern Companies' bulk transmission charges, as adopted by Southern Companies in this proceeding to amend their Open Access Transmission Tariff (FERC Electric Tariff, Fourth Revised Volume No. 5).

Comment Date: October 18, 2002.

4. ISO New England Inc.

[Docket No. ER02-2153-001]

Take notice that on September 30, 2002, ISO New England Inc., submitted its compliance report in this proceeding.

Copies of the said filing have been served upon all parties to this proceeding and electronically upon the New England Power Pool participants.

Comment Date: October 21, 2002.

5. Bridger Valley Electric Association, Inc.

[Docket No. ER02-2198-001]

Take notice that on September 30, 2002, Bridger Valley Electric Association, Inc. (Bridger Valley) submitted additional information to the Commission's letter dated August 16, 2002, that the June 28, 2002, Open Access Transmission Tariff and accompanying rates are deficient and requested further information.

Comment Date: October 21, 2002.

6. Southern Company Services, Inc.

[Docket No. ER02-2220-002]

Take notice that on September 30, 2002, Southern Company Services, Inc. (SCS), acting on behalf of Alabama Power Company, Georgia Power Company, Gulf Power Company, Mississippi Power Company, and Savannah Electric and Power Company (collectively, Southern Companies), resubmitted First Revised Service Agreement No. 387 for long-term firm point-to-point transmission service under the Open Access Transmission Tariff of Southern Companies (FERC Electric Tariff, Fourth Revised Volume No. 5) (Tariff) in compliance with the Commission's order in this proceeding dated August 30, 2002.

Comment Date: October 21, 2002.

7. Southwest Power Pool, Inc.

[Docket Nos. ER02-2222-001, (not consolidated), ER02-2223-001, ER02-2224-001, ER02-2225-001, and ER02-2226-001]

Take notice that on September 30, 2002, Southwest Power Pool, Inc. (SPP) submitted for filing the compliance filing required by the Federal Energy Regulatory Commission's August 30, 2002 issued in the proceedings listed above. Southwest Power Pool, Inc., 100 FERC ¶ 61,239.

Comment Date: October 21, 2002.

8. Mt. Carmel Public Utility Company

[Docket No. ER02-2293-001]

Take notice that on September 30, 2002, Mt. Carmel Public Utility Company tendered for filing with the Federal Energy Regulatory Commission (Commission) an amendment to its service agreement filed July 1, 2002. The amendment is cover sheets containing the proper designations and tariff references.

Comment Date: October 21, 2002.

9. Element Re Capital Products Inc.

[Docket No. ER02-2610-000]

Take notice that on September 30, 2002, Element Re Capital Products Inc., (Element Re) petitioned the Commission for acceptance of Element Re's Rate Schedule FERC No. 1; the granting of certain blanket approvals, including the authority to sell electricity at market-based rates; and the waiver of certain Commission regulations.

Element Re intends to engage in wholesale electric power and energy transactions as a marketer and a broker. Element Re is not in the business of generating or transmitting electric power. Element Re is a privately held corporation formed under the laws of Delaware. Element Re's principal place of business is Stamford, Connecticut. In transactions where Element Re sells electric power it proposes to make such sales on rates, terms, and conditions to be mutually agreed to with the purchasing party.

Comment Date: October 21, 2002.

10. Public Service Company of New Mexico

[Docket No. ER02-2611-000]

Take notice that on September 30, 2002, Public Service Company of New Mexico (PNM) submitted for filing an executed revised Network Integration Transmission Service Agreement (NITSA) and an associated revised Network Operating Agreement (NOA) with Tri-State Generation and Transmission Association, Inc. (Tri-State), with an effective date of August 31, 2002, under the terms of PNM's Open Access Transmission Tariff (OATT). The NITSA and NOA have been updated to reflect current business arrangements between PNM and Tri-State, including the recently agreed to arrangements concerning Spinning Reserve Services, under a new Reserve Obligation Agreement between PNM and Tri-State, which is being filed as Exhibit “E” to the NITSA. PNM is requesting an effective date for the NITSA and NOA of August 31, 2002. PNM's filing is available for public inspection at its offices in Albuquerque, New Mexico.

A copy of this filing has been served upon Tri-State and informational copies have been sent to the New Mexico Public Regulation Commission and to the New Mexico Attorney General.

Comment Date: October 21, 2002.

11. Public Service Company of New Mexico

[Docket No. ER02-2612-000]

Take notice that on September 30, 2002, Public Service Company of New Mexico (PNM) submitted for filing, pursuant to the Regulations of the Federal Energy Regulatory Commission (18 CFR 35.15), Notices of Cancellation of rate schedules between PNM and Tri-State Generation and Transmission Association, Inc. (Tri-State). PNM's filing is a follow-up to a previously requested Notice of Cancellation of these same rate schedules that were postponed by request of PNM to await requisite regulatory approvals for certain replacement agreements.

Pursuant to PNM's filing, the agreements to be canceled include: Service Schedule A to the PNM-Tri-State Master Interconnection Agreement, dated February 28, 1977 (Rate Schedule FERC No. 31, Supplement 4); Service Schedule G to the PNM-Tri-State Master Interconnection Agreement, dated February 27, 1987 (Rate Schedule FERC No. 31, Supplements 43, 43.1, 43.2, 43.5, 45, and 45.1); and the Contract for Transmission Service Agreement Between PNM and Tri-State, dated July 11, 1968 (Rate Schedule FERC No. 12, Supplement 12.1). PNM's filing is available for public inspection at its offices in Albuquerque, New Mexico.

A copy of this filing has been served upon Tri-State and informational copies have been sent to the New Mexico Public Regulation Commission and to the New Mexico Attorney General.

Comment Date: October 21, 2002.

12. American Electric Power Service Corporation

[Docket No. ER02-2613-000]

Take notice that on September 30, 2002, the American Electric Power Service Corporation (AEPSC), tendered for filing Specifications for Long-Term Firm PTP Transmission Service for Exelon Generation Company, LLC and Consumers Energy Company. These agreements are pursuant to the AEP Companies' Open Access Transmission Tariff (OATT) that has been designated as the Operating Companies of the American Electric Power System FERC Electric Tariff Third Revised Volume No. 6.

AEPSC requests waiver of notice to permit the Specifications for Long-Term Firm PTP Transmission Service to be effective on and after September 1, 2002. A copy of the filing was served upon the Parties and the state utility regulatory commissions of Arkansas, Indiana, Kentucky, Louisiana, Michigan, Ohio, Oklahoma, Tennessee, Texas, Virginia and West Virginia.

Comment Date: October 21, 2002.

13. Central Vermont Public Service Corporation

[Docket No. ER02-2614-000]

Take notice that Central Vermont Public Service Corporation (Central Vermont), on September 30, 2002, tendered for filing proposed modifications to its Open Access Transmission Tariff (OATT). The modifications permit Central Vermont to offer transmission service on portions of the Phase I and Phase II HVDC Transmission facilities that currently are under the control of third party holders of transmission rights who have given Central Vermont authority to broker those rights. The purpose of this filing is to improve the ability of transmission customers to obtain service over the Phase I/Phase II transmission lines by aggregating the transmission rights of several rights owners into a single block.

Copies of the filing were served upon the public utility's jurisdictional customers, New Hampshire Public Utilities Commission and Vermont Public Service Board.

Comment Date: October 21, 2002.

14. PPL Electric Utilities Corporation

[Docket No. ER02-2615-000]

Take notice that on September 30, 2002, PPL Electric Utilities Corporation (PPL Electric Utilities) filed a notice of termination of Rate Schedule FERC No. 114. PPL Electric Utilities requests that the termination be effective on November 29, 2002.

Notice of the termination has been served on Delmarva Power & Light Company.

Comment Date: October 21, 2002.

15. PPL Electric Utilities Corporation

[Docket No. ER02-2616-000]

Take notice that on September 30, 2002, PPL Electric Utilities Corporation (PPL Electric Utilities) filed a notice of termination of PPL Electric Utilities' Rate Schedule FERC No. 98. PPL Electric Utilities requests that the termination be effective on November 29, 2002.

Notice of the termination has been served on Public Service Company of New Hampshire.

Comment Date: October 21, 2002.

16. PPL Electric Utilities Corporation

[Docket No. ER02-2617-000]

Take notice that on September 30, 2002, PPL Electric Utilities Corporation (PPL Electric Utilities) filed a notice of termination of Rate Schedule FERC No. 99. Rate Schedule FERC No. 99 terminated by its own terms on May 31, 1992.

Notice of the termination has been served on Atlantic City Electric Company.

Comment Date: October 21, 2002.

17. PPL Electric Utilities Corporation

[Docket No. ER02-2618-000]

Take notice that on September 30, 2002, PPL Electric Utilities Corporation (PPL Electric Utilities) filed a notice of termination of Rate Schedule FERC No. 103. PPL Electric Utilities requests that the termination be effective on November 29, 2002.

Notice of the termination has been served on Atlantic City Electric Company.

Comment Date: October 21, 2002.

18. PPL Electric Utilities Corporation

[Docket No. ER02-2619-000]

Take notice that on September 30, 2002, PPL Electric Utilities Corporation (PPL Electric Utilities) filed a notice of termination of Rate Schedule FERC No. 100. Rate Schedule FERC No. 100 terminated by its own terms on May 31, 1995.

Notice of the termination has been served on GPU Service Corporation.

Comment Date: October 21, 2002.

19. PPL Electric Utilities Corporation

[Docket No. ER02-2620-000]

Take notice that on September 30, 2002, PPL Electric Utilities Corporation (PPL Electric Utilities) filed a notice of termination of Rate Schedule FERC No. 102. PPL Electric Utilities requests that the termination be effective on November 29, 2002.

Notice of the termination has been served on GPU Service Corporation.

Comment Date: October 21, 2002.

20. PPL Electric Utilities Corporation

[Docket No. ER02-2621-000]

Take notice that on September 30, 2002, PPL Electric Utilities Corporation (PPL Electric Utilities) filed a notice of termination of Rate Schedule FERC No.104. PPL Electric Utilities requests that the termination be effective on November 29, 2002.

Notice of the termination has been served on Public Service Electric and Gas Company.

Comment Date: October 21, 2002.

21. PPL Electric Utilities Corporation

[Docket No. ER02-2622-000]

Take notice that on September 30, 2002, PPL Electric Utilities Corporation (PPL Electric Utilities) filed a notice of termination of Rate Schedule FERC No. 105. PPL Electric Utilities requests that the termination be effective on November 29, 2002.

Notice of the termination has been served on Baltimore Gas & Electric Company.

Comment Date: October 21, 2002.

22. PPL Electric Utilities Corporation

[Docket No. ER02-2623-000]

Take notice that on September 30, 2002, PPL Electric Utilities Corporation (PPL Electric Utilities) filed a notice of termination of Rate Schedule FERC No. 106. PPL Electric Utilities requests that the termination be effective on November 29, 2002.

Notice of the termination has been served on Atlantic City Electric Company.

Comment Date: October 21, 2002.

23. PPL Electric Utilities Corporation

[Docket No. ER02-2624-000]

Take notice that on September 30, 2002, PPL Electric Utilities Corporation (PPL Electric Utilities) filed a notice of termination of Rate Schedule FERC No. 77. PPL Electric Utilities requests that the termination be effective on November 29, 2002.

Notice of the termination has been served on Orange and Rockland Utilities, Inc.

Comment Date: October 21, 2002.

24. PPL Electric Utilities Corporation

[Docket No. ER02-2625-000]

Take notice that on September 30, 2002, PPL Electric Utilities Corporation (PPL Electric Utilities) filed a notice of termination PPL Electric Utilities' Rate Schedule FERC No. 76. PPL Electric Utilities requests that the termination be effective on November 29, 2002.

Notice of the termination has been served on Consolidated Edison Company of New York, Inc..

Comment Date: October 21, 2002.

25. PPL Electric Utilities Corporation

[Docket No. ER02-2626-000]

Take notice that on September 30, 2002, PPL Electric Utilities Corporation (PPL Electric Utilities) filed a notice of termination of PPL Electric Utilities' Rate Schedule FERC No. 78. PPL Electric Utilities requests that the termination be effective on November 29, 2002.

Notice of the termination has been served on Mohawk Power Corporation.

Comment Date: October 21, 2002.

26. PPL Electric Utilities Corporation

[Docket No. ER02-2627-000]

Take notice that on September 30, 2002, PPL Electric Utilities Corporation (PPL Electric Utilities) filed a notice of termination of PPL Electric Utilities' Rate Schedule FERC No. 83. PPL Electric Utilities requests that the termination be effective on November 29, 2002.

Notice of the termination has been served on the Power Authority of the State of New York.

Comment Date: October 21, 2002.

27. PPL Electric Utilities Corporation

[Docket No. ER02-2628-000]

Take notice that on September 30, 2002, PPL Electric Utilities Corporation (PPL Electric Utilities) filed a notice of termination of PPL Electric Utilities' Rate Schedule FERC No. 82. PPL Electric Utilities requests that the termination be effective on November 29, 2002.

Notice of the termination has been served on Connecticut Municipal Electric Energy Cooperative.

Comment Date: October 21, 2002.

28. PPL Electric Utilities Corporation

[Docket No. ER02-2629-000]

Take notice that on September 30, 2002, PPL Electric Utilities Corporation (PPL Electric Utilities) filed a notice of termination of PPL Electric Utilities' Rate Schedule FERC No. 81 and effective on October 4, 1983, is to be termination as of November 29, 2002.

Notice of the termination has been served on New England Power Company.

Comment Date: October 21, 2002.

29. PPL Electric Utilities Corporation

[Docket No. ER02-2630-000]

Take notice that on September 30, 2002, PPL Electric Utilities Corporation (PPL Electric Utilities) filed a notice of termination of PPL Electric Utilities' Rate Schedule FERC No. 80. PPL Electric Utilities requests that the termination be effective on November 29, 2002.

Notice of the termination has been served on New York State Electric & Gas Corporation.

Comment Date: October 21, 2002.

30. PPL Electric Utilities Corporation

[Docket No. ER02-2631-000]

Take notice that on September 30, 2002, PPL Electric Utilities Corporation (PPL Electric Utilities) filed a notice of termination of PPL Electric Utilities' Rate Schedule FERC No. 75. PPL Electric Utilities requests that the termination be effective on November 29, 2002.

Notice of the termination has been served on Northeast Utilities Service Company.

Comment Date: October 21, 2002.

31. PPL Electric Utilities Corporation

[Docket No. ER02-2632-000]

Take notice that on September 30, 2002, PPL Electric Utilities Corporation (PPL Electric Utilities) filed a notice of termination of PPL Electric Utilities' Rate Schedule FERC No.145. PPL Electric Utilities requests that the termination be effective on November 29, 2002.

Notice of the termination has been served on Catex Vitol Electric, Inc.

Comment Date: October 21, 2002.

32. PPL Electric Utilities Corporation

[Docket No. ER02-2633-000]

Take notice that on September 30, 2002, PPL Electric Utilities Corporation (PPL Electric Utilities) filed a notice of termination of PPL Electric Utilities' Rate Schedule FERC No. 144. PPL Electric Utilities requests that the termination be effective on November 29, 2002.

Notice of the termination has been served on PEPC Energy Company.

Comment Date: October 21, 2002.

33. PPL Electric Utilities Corporation

[Docket No. ER02-2634-000]

Take notice that on September 30, 2002, PPL Electric Utilities Corporation (PPL Electric Utilities) filed a notice of termination of PPL Electric Utilities' Rate Schedule FERC No.137. PPL Electric Utilities requests that the termination be effective on November 29, 2002.

Notice of the termination has been served on Enron Power Marketing, Inc.

Comment Date: October 21, 2002.

34. PPL Electric Utilities Corporation

[Docket No. ER02-2635-000]

Take notice that on September 30, 2002, PPL Electric Utilities Corporation (PPL Electric Utilities) filed a notice of termination of PPL Electric Utilities' Rate Schedule FERC No. 111. PPL Electric Utilities requests that the termination be effective on November 29, 2002.

Notice of the termination has been served on New York Power Authority.

Comment Date: October 21, 2002.

35. PPL Electric Utilities Corporation

[Docket No. ER02-2636-000]

Take notice that on September 30, 2002, PPL Electric Utilities Corporation (PPL Electric Utilities) filed a notice of termination of PPL Electric Utilities' Rate Schedule FERC No.138. PPL Electric Utilities requests that the termination be effective on November 29, 2002.

Notice of the termination has been served on Public Service Electric and Gas Company.

Comment Date: October 21, 2002.

36. PPL Electric Utilities Corporation

[Docket No. ER02-2637-000]

Take notice that on September 30, 2002, PPL Electric Utilities Corporation (PPL Electric Utilities) filed a notice of termination of PPL Electric Utilities' Rate Schedule FERC No. 136. PPL Electric Utilities requests that the termination be effective on November 29, 2002.

Notice of the termination has been served on North American Energy Conservation, Inc.

Comment Date: October 21, 2002.

37. PPL Electric Utilities Corporation

[Docket No. ER02-2638-000]

Take notice that on September 30, 2002, PPL Electric Utilities Corporation (PPL Electric Utilities) filed a notice of termination of PPL Electric Utilities' Rate Schedule FERC No. 135. PPL Electric Utilities requests that the termination be effective on November 29, 2002.

Notice of the termination has been served on Louis Dreyfus Electric Power, Inc.

Comment Date: October 21, 2002.

38. PPL Electric Utilities Corporation

[[Docket No. ER02-2639-000]

Take notice that on September 30, 2002, PPL Electric Utilities Corporation (PPL Electric Utilities) filed a notice of termination of PPL Electric Utilities' Rate Schedule FERC No. 148. PPL Electric Utilities requests that the termination be effective on November 29, 2002.

Notice of the termination has been served on Pennsylvania Electric Company.

Comment Date: October 21, 2002.

39. PPL Electric Utilities Corporation

[Docket No. ER02-2640-000]

Take notice that on September 30, 2002, PPL Electric Utilities Corporation (PPL Electric Utilities) filed a notice of termination of PPL Electric Utilities' Rate Schedule FERC No. 147. PPL Electric Utilities requests that the termination be effective on November 29, 2002.

Notice of the termination has been served on Jersey Central Power and Light Company.

Comment Date: October 21, 2002.

40. PPL Electric Utilities Corporation

[Docket No. ER02-2641-000]

Take notice that on September 30, 2002, PPL Electric Utilities Corporation (PPL Electric Utilities) filed a notice of termination of PPL Electric Utilities' Rate Schedule FERC No. 156. PPL Electric Utilities requests that the termination be effective on November 29, 2002.

Notice of the termination has been served on Toledo Edison Company.

Comment Date: October 21, 2002.

41. PPL Electric Utilities Corporation

[Docket No. ER02-2642-000]

Take notice that on September 30, 2002, PPL Electric Utilities Corporation (PPL Electric Utilities) filed a notice of termination of PPL Electric Utilities' Rate Schedule FERC No. 146. PPL Electric Utilities requests that the termination be effective on November 29, 2002.

Notice of the termination has been served on Northeast Utilities Service Company.

Comment Date: October 21, 2002.

42. PPL Electric Utilities Corporation

[Docket No. ER02-2643-000]

Take notice that on September 30, 2002, PPL Electric Utilities Corporation (PPL Electric Utilities) filed a notice of termination of PPL Electric Utilities' Rate Schedule FERC No. 153. PPL Electric Utilities requests that the termination be effective on November 29, 2002.

Notice of the termination has been served on Niagara Mohawk Power Corporation.

Comment Date: October 21, 2002.

43. PPL Electric Utilities Corporation

[Docket No. ER02-2644-000]

Take notice that on September 30, 2002, PPL Electric Utilities Corporation (PPL Electric Utilities) filed a notice of termination of PPL Electric Utilities' Rate Schedule FERC No. 131. PPL Electric Utilities requests that the termination be effective on November 29, 2002.

Notice of the termination has been served on Potomac Electric Power Company.

Comment Date: October 21, 2002.

44. PPL Electric Utilities Corporation

[Docket No. ER02-2645-000]

Take notice that on September 30, 2002, PPL Electric Utilities Corporation (PPL Electric Utilities) filed a notice of termination of PPL Electric Utilities' Rate Schedule FERC No. 155. PPL Electric Utilities requests that the termination be effective on November 29, 2002.

Notice of the termination has been served on GPU Energy Services Company.

Comment Date: October 21, 2002.

45. PPL Electric Utilities Corporation

[Docket No. ER02-2646-000]

Take notice that on September 30, 2002, PPL Electric Utilities Corporation (PPL Electric Utilities) filed a notice of termination of PPL Electric Utilities' Rate Schedule FERC No. 132. PPL Electric Utilities requests that the termination be effective on November 29, 2002.

Notice of the termination has been served on Metropolitan Edison Company.

Comment Date: October 21, 2002.

46. PPL Electric Utilities Corporation

[Docket No. ER02-2647-000]

Take notice that on September 30, 2002, PPL Electric Utilities Corporation (PPL Electric Utilities) filed a notice of termination of PPL Electric Utilities' Rate Schedule FERC No. 150. PPL Electric Utilities requests that the termination be effective on November 29, 2002.

Notice of the termination has been served on Atlantic City Electric Company.

Comment Date: October 21, 2002.

47. PPL Electric Utilities Corporation

[Docket No. ER02-2648-000]

Take notice that on September 30, 2002, PPL Electric Utilities Corporation (PPL Electric Utilities) filed a notice of termination of PPL Electric Utilities' Rate Schedule FERC No. 151. PPL Electric Utilities requests that the termination be effective on November 29, 2002.

Notice of the termination has been served on Public Service Electric and Gas Company.

Comment Date: October 21, 2002.

48. Southwest Power Pool, Inc.

[Docket No. ER02-2649-000]

Take notice that on September 30, 2002, Southwest Power Pool, Inc. (SPP) tendered for filing an executed service agreement for Network Integration Transmission Service and an unexecuted Network Operating Agreement with (Network Customer). SPP seeks an effective date of September 1, 2002 for these service agreements.

A copy of this filing was served on the Network Customer.

Comment Date: October 21, 2002.

49. Bangor Hydro-Electric Company

[Docket No. ER02-2650-000]

Take notice that on September 30, 2002, Bangor Hydro-Electric Company filed an executed service agreement for firm point-to-point transmission service with Central Maine Power Company (CMP).

Comment Date: October 21, 2002.

50. PJM Interconnection, L.L.C.

[Docket No. ER02-2651-000]

Take notice that on September 30, 2002, PJM Interconnection, L.L.C. (PJM), submitted for filing amendments to the PJM Open Access Transmission Tariff to add a new Schedule 6A which sets forth the terms and conditions for Black Start Service.

PJM requests an effective date of December 1, 2002 for the amendments. Copies of this filing were served upon all PJM members and each state electric utility regulatory commission in the PJM control area and PJM West region.

Comment Date: October 21, 2002.

51. New York Independent System Operator, Inc.

[Docket No. ER02-2652-000]

Take notice that on September 30, 2002, the New York Independent System Operator, Inc. (NYISO) filed revisions to its Open Access Transmission Tariff (OATT) and its Market Administration and Control Area Services (Services Tariff) to shorten the time period within which the NYISO may adjust or correct Settlement information to twelve-months from the date that the NYISO issues an initial invoice for services provided beginning October 1, 2002, and to shorten the time period to four months for challenges to final billing invoices for services provided beginning with the October 2002 service month. The NYISO has requested an effective date of October 31, 2002.

The NYISO has served a copy of this filing upon all parties that have executed service agreements under the NYISO's OATT and Services Tariff and to the electric utility regulatory agencies in New York, New Jersey, and Pennsylvania.

Comment Date: October 21, 2002.

52. Cleco Power LLC

[Docket No. ER02-2653-000]

Take notice that on September 26, 2002, Cleco Power LLC tendered for filing with the Federal Energy Regulatory Commission (Commission) First Revised Sheet Nos. 77 and 78, an Attachment E, from Cleco Power's open access transmission tariff, titled “Index of Point-to-Point Transmission service Customers”, to include TECO EnergySource, Inc. as a short-term firm and non-firm transmission customer. Cleco Power LLC and TECO EnergySource, Inc. have executed agreements under which Cleco Power will provide short-term firm point-to-point transmission service and non-firm point-to-point transmission service to TECO EnergySource, Inc. Under its Open Access Transmission Tariff.

Comment Date: October 17, 2002.

Standard Paragraph

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Acting Secretary.

[FR Doc. 02-25982 Filed 10-17-02; 8:45 am]

BILLING CODE 6717-01-P